DEPARTMENT OF JUSTICE

[OMB Number 1125-0009]

Agency Information Collection Activities; Proposed eCollection eComments Requested; Extension of a Previously Approved Collection; Title: Application for Suspension of Deportation (EOIR-40)

AGENCY: Executive Office for Immigration Review, Department of Justice.

ACTION: 30-Day notice.

SUMMARY: The Department of Justice (DOJ), Executive Office for Immigration Review (EOIR), will be submitting the following information collection request to the Office of Management and Budget (OMB) for review and approval in accordance with the Paperwork Reduction Act of 1995.

DATES: Comments are encouraged and will be accepted for 30 days until March 3, 2025.

FOR FURTHER INFORMATION CONTACT: If you have additional comments especially on the estimated public burden or associated response time, suggestions, or need a copy of the proposed information collection instrument with instructions or additional information, please contact Laeticia Mukala-Nirere, Attorney Advisor, Office of the General Counsel, Executive Office for Immigration Review, 5107 Leesburg Pike, Suite 2600, Falls Church, VA 22041, telephone: (703) 305-0470, EOIR.PRA.Comments@usdoj.gov or Kabina.L.Mukala-Nirere@usdoj.gov.

SUPPLEMENTARY INFORMATION: The proposed information collection was previously published in the Federal Register on November 20, 2024, allowing a 60-day comment period. Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1125-0009. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Renewal, with change, of a currently approved collection. EOIR is making a few non-substantive changes to the current Form EOIR-40, to include typographical and grammatical edits, adding appropriate spacing between words, and removing unnecessary spacing and symbols between words. EOIR is also making several minor but substantive changes to the current Form EOIR-40, to include removing the word “alien” from the document, and replacing it with the word “noncitizen”; clarifying the description of the dimension of an applicant's facial image for passport photographs; modifying the sentence explaining the purpose and instructions of this form; changing the word “home” phone number to “cell” phone number; and including a privacy act statement.

2. The Title of the Form/Collection: Application for Suspension of Deportation.

3. The agency form number, if any, and the applicable component of the Department sponsoring the collection: The form number is EOIR-40; the sponsoring component is Executive Office for Immigration Review, United States Department of Justice.

4. Affected public who will be asked or required to respond, as well as the obligation to respond: Primary: Individual noncitizens determined to be deportable from the United States. Other: None. Abstract: This information collection is necessary to determine the statutory eligibility of individual noncitizens, who have been determined to be deportable from the United States, for suspension of their deportation pursuant to former section 244 of the INA and 8 CFR 1240.55.

5. Obligation to Respond: The information requested on this form is authorized by 8 CFR 1240.55-.58 to adjudicate a noncitizen's request for suspension of deportation under Section 244 of the Immigration and Nationality Act (INA) in effect prior to April 1, 1997. This is a mandatory collection of information because EOIR requires it to adjudicate the request for suspension of deportation. Failure to provide the requested information may affect the individual's ability to establish his/her eligibility for suspension of deportation and to determine his/her legal right to remain in the United States.

6. Total Estimated Number of Respondents: It is estimated that 147 respondents will complete the form annually.

7. Estimated Time per Respondent: It is estimated that it will take an average of 5 hour and 45 minutes per response.

8. Frequency: It is estimated that respondents will complete the form annually.

9. Total Estimated Annual Time Burden: The estimated public burden associated with this collection is 845.25 hours.

10. Total Estimated Annual Other Costs Burden: The estimated annual cost burden associated with this collection is $73,935.12.

If additional information is required contact: Darwin Arceo, Department Clearance Officer, United States Department of Justice, Justice Management Division, Policy and Planning Staff, Two Constitution Square, 145 N Street NE, 4W-218, Washington, DC.

Dated: January 27, 2025
Darwin Arceo,
Department Clearance Officer for PRA, U.S. Department of Justice.

[FR Doc. 2025-01964 Filed 1-29-25; 8:45 am]

BILLING CODE 4410-30-P